DEPARTMENT OF HEALTH AND HUMAN SERVICES

Office of Public Health and Science

National Action Plan on Oversight and Obesity: Notice of Opportunity for Public Comment; Notice of Public Meeting

AGENCY: OS/Office of Public Health and Science, DHHS.

ACTION: Opportunity to provide comments; Notice of Public Meeting.

SUMMARY: The Department of Health and Human Services (HHS) (a) solicits written comments on the key elements of a national action plan on overweight and obesity, and (b) provides notice of a public meeting.

DATES: (1) Written comments may be submitted on or before 5 p.m. E.S.T. on December 29, 2000. (2) A public meeting will be held on December 7, 2000 from 1 p.m. to 5:30 p.m. and on December 8, 2000 from 8:30 a.m. to 5:30 p.m.

ADDRESSES: (1) Written comments should be sent to Paul Ambrose, M.D., M.P.H., HHS Office of Disease Prevention and Health Promotion, Office of Public Health and Science, Room 738-G, 200 Independence Ave., SW., Washington, DC 20201, (202) 205-4872 (telephone), 202-205-9478 (facsimile). Comments also may be submitted electronically at www.sgobesity.niddk.nih.gov. (2) A public meeting will be held at the Lister Hill Auditorium, Building 38A, NIH Campus, Bethesda, Maryland. The meeting is open to the public; seating is limited.

FOR FURTHER INFORMATION CONTACT: Paul Ambrose, M.D., M.P.H., or Kathryn McMurry, M.S., HHS Office of Disease Prevention and Health Promotion, Office of Public Health and Science, Room 738-G, 200 Independence Ave., SW., Washington, DC 20201, (202) 205-4872. To register for the meeting, contact Ms. Susie Warner at (301) 897-2789 (telephone), (301) 897-9587 (facsimile), or on-line at www.sbogesity.niddk.nih.gov. Additional information can be obtained at this website or at www.surgeongeneral.gov.

SUPPLEMENTARY INFORMATION:

Background

Overweight and obesity is a significant public health problem because it increases risk for many chronic diseases and premature death. More than half of adults and 11 percent of children and adolescents in the United States are estimated to be overweight or obese. The prevalence has almost doubled among children and adolescents since 1980 and is increasing in both genders and among all population groups of adults. Total costs (medical costs and lost productivity) attributed to obesity amounted to an estimated $99 billion in 1995. Health People 2010, the nation's public health agenda, has identified overweight and obesity as one of ten Leading Health Indicators.

While the magnitude of the problem is great, the range of potential solutions is even greater. The design of successful prevention strategies will require the careful attention of many individuals and organizations working together. Prevention of overweight and obesity requires a broad array of strategies to promote healthy eating and increased physical activity. A number of activities are underway in public and private sectors related to the public health issue of obesity.

Written Comments

In preparation for the development of a national action plan to address overweight and obesity in the United States, comments are welcome from all interested stakeholders. Further opportunity for public input in development of the plan is envisioned during 2001.

Comments will be most useful if they include the following information:

(1) What you consider to be the three to five most important priorities for addressing overweight and obesity in the United States.

(2) How, as a nation, we should pursue these strategies.

(3) Your views on the most effective ways to address disparities among different segments of the population.

(4) (If applicable) A short summary of activities that your organization is engaged in or plans to engage in to address overweight and obesity. This information may become part of a publicly accessible website information center.

Comments received by November 26 will be summarized and made available at the listening session described below. Comments will be accepted through 5 p.m., E.S.T. on December 29, 2000.

Announcement of Meeting

To launch a process of developing a national action plan on overweight and obesity, Assistant Secretary for Health and Surgeon General David Satcher plans a listening session entitled Toward a National Action Plan on Overweight and Obesity: The Surgeon General's Initiative on December 7-8, 2000. The event will include invited panels of non-federal and nongovernmental organizations to discuss views on what the key elements of a national action plan on overweight and obesity should be, as well as time for discussion.

Meeting Location and Registration

The meeting will be held on December 7, 2000 from 1 p.m. to 5:30 p.m. and on December 8, 2000 from 8:30 a.m. to 5:30 p.m. at the Lister Hill Auditorium in Bethesda, Maryland. The Lister Hill auditorium is located at Lister Hill Auditorium, Building 38A, NIH Campus, Bethesda, MD. The building is located near the Medical Center metro stop (red line train). Because seating is limited, registration is required and may be limited to one representative per organization. To register, please contact Ms. Susie Warner at (301) 897-2789 (telephone), (301) 897-9587 (facsimile), or on-line at www.sgobesity.niddk.nih.gov. If you require a sign language interpreter, please contact Ms. Warner by 5 p.m. E.S.T. on November 30, 2000. The meeting will be webcast live at videocast.nih.gov.

Dated: November 1, 2000.
David Satcher,
Assistant Secretary for Health and Surgeon General.

[FR Doc. 00-28642 Filed 11-7-00; 8:45 am]

BILLING CODE 4160-17-M